DEPARTMENT OF VETERANS AFFAIRS

[OMB Control No. 2900-0387]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine whether an applicant qualifies as a mortgagor for mortgage insurance or guaranty or as a borrower for a rehabilitation loan under VA's program.

DATES: Written comments and recommendations on the proposed collection of information should be received on or before June 25, 2001.

ADDRESSES: Submit written comments on the collection of information to Nancy J. Kessinger, Veterans Benefits Administration (20S52), Department of Veterans Affairs, 810 Vermont Avenue, NW., Washington, DC 20420 or e-mail irmnkess@vba.va.gov. Please refer to “OMB Control No. 2900-0387” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Request for Verification of Deposit, VA Form 26-8497a.

OMB Control Number: 2900-0387.

Type of Review: Extension of a currently approved collection.

Abstract: VA is prohibited from guaranteeing or making any loan unless the contemplated terms of payment required in any mortgage to be given in part payment of the purchase price or the construction cost bear a proper relation to the veteran's present and anticipated income and expenses and that the veteran is a satisfactory credit risk. The form is primarily used by lenders making guaranteed and insured loans to verify the applicant's deposits in banks and other savings institutions. It is also used to process direct loans, offers on acquired properties, and release from liability/substitution of entitlement cases when needed. In these types of cases, part I of the form is completed by the lender and signed by the applicant then forwarded to the depository. The depository completes part II, verifying the applicant's deposits, providing information and payment experience on outstanding loans, and returns the form to the lender.

Affected Public: Business or other for-profit.

Estimated Annual Burden: 16,318 hours.

Estimated Average Burden Per Respondent: 5 minutes.

Frequency of Response: On occasion.

Estimated Number of Respondents: 195,817.

Dated: March 30, 2001.
Barbara H. Epps,
Management Analyst, Information Management Service.

[FR Doc. 01-10382 Filed 4-25-01; 8:45 am]

BILLING CODE 8320-01-P